NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 31, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail):

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Paul M. Wester, Jr., Acting Director, Life Cycle Management Division (NWML), National Archives and Records Administration, 8601 Adelphi Road, College Park, MD 20740-6001. Telephone: (301) 837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (note the new address for requesting schedules using e-mail):

1. Department of Agriculture, Food Safety and Inspection Service (N1-462-05-4, 8 items, 5 temporary items). Inputs, outputs, system documentation, and electronic mail and word processing copies associated with an electronic information system that tracks violations of food safety and inspection regulations at domestic meat and poultry plants. Proposed for permanent retention are recordkeeping copies of master files, quality enforcement reports generated by the system, and documentation necessary to access and use the system.

2. Department of the Army, Agency-wide (N1-AU-04-10, 2 items, 2 temporary items). Records relating to the design and creation of identification cards, tags, badges, and other personnel identification instruments. Also included are electronic copies of these records created using electronic mail and word processing. This schedule authorizes the agency to apply the proposed disposition instructions to any recordkeeping medium.

3. Department of Defense, Office of the Inspector General (N1-509-04-1, 2 items, 2 temporary items). Master files and outputs associated with an electronic information system used to track audits and evaluations, findings, recommendations and audit follow-up, training, and time and attendance.

4. Department of Education, Office of Management, (N1-441-05-5, 2 items, 1 temporary item). Electronic copies of records created using electronic mail and word processing that pertain to case files relating to Department policies and procedures. Proposed for permanent retention are recordkeeping copies of these files.

5. Department of Health and Human Services, Centers for Disease Control and Prevention (N1-442-05-1, 4 items, 4 temporary items). Electronic copies of records created using electronic mail and word processing that are associated with employee medical conditions and exposure to harmful agents. This schedule also reduces the retention period for recordkeeping copies of files with potential research value, which were previously approved for disposal.

6. Department of Homeland Security, U.S. Immigration and Customs Enforcement (N1-567-05-2, 5 items, 5 temporary items). Inputs, outputs, master files, and documentation associated with an electronic information system used to collect and analyze aviation surveillance information.

7. Department of Housing and Urban Development, Office of Housing (N1-207-05-1, 11 items, 11 temporary items). Electronic copies of records created using electronic mail and word processing that are associated with the Interstate Land Sales Registration Program. This schedule also authorizes a change in the recordkeeping format of main filing, enforcement, and investigatory case files to electronic document format. Recordkeeping copies of these records in hardcopy and microfilm were previously approved for disposal.

8. Department of Housing and Urban Development, Office of Housing (N1-207-05-2, 2 items, 2 temporary items). Electronic copies of records created using electronic mail and word processing that are associated with mortgagee approvals.

9. Department of Housing and Urban Development, Office of Housing (N1-207-05-3, 11 items, 11 temporary items). Electronic copies of records created using electronic mail and word processing that are associated with direct loans and capital advances for the elderly and persons with disabilities. This schedule also updates descriptions of recordkeeping copies of general subject files, chronological files, correspondence, and project and asset management files, which were previously approved for disposal.

10. Department of Housing and Urban Development, Office of Labor Relations (N1-207-05-4, 3 items, 3 temporary items). Annual review files pertaining to the monitoring of labor standards statutes and other related Office functions. Also included are electronic copies of records created using electronic mail and word processing.

11. Department of Justice, Criminal Division (N1-60-05-8, 1 item, 1 temporary item). This schedule reduces the retention period for recordkeeping copies of Dallas, Texas Bank Fraud Task Force case files, which were previously approved for disposal.

12. Department of Justice, Criminal Division (N1-60-05-9, 1 item, 1 temporary item). This schedule reduces the retention period for recordkeeping copies of New England Bank Fraud Task Force case files, which were previously approved for disposal.

13. The Department of Justice, Bureau of Prisons, (N1-129-05-15, 5 items, 5 temporary items). Inputs, outputs, master files, documentation, and electronic mail and word processing copies associated with an electronic information system used to manage food service at Federal prisons.

14. Department of Justice, Federal Bureau of Investigation (N1-65-05-8, 1 item, 1 temporary item). Records routinely compiled by program offices in advance of inspection by the Bureau's Office of Inspections. Records include a status report of current program activities, statistical accomplishments, and completed self-evaluations.

15. Department of Transportation, Federal Aviation Administration (N1-237-05-5, 4 items, 4 temporary items). Inputs, outputs, and master files associated with an electronic information system used to collect and disseminate airman medical certification files.

16. Department of Transportation, National Highway Traffic Safety Administration (N1-416-05-1, 4 items, 4 temporary items). Case files relating to disability discrimination complaints and discrimination in the workplace. Also included are electronic copies of records created using electronic mail and word processing.

17. Department of the Treasury, Financial Management Service (N1-425-05-3, 11 items, 7 temporary items). Records of the Electronic Funds Transfer Strategy Division relating to Government-wide cash management initiatives and objectives, including electronic copies of records created using electronic mail and word processing. Proposed for permanent retention are recordkeeping copies of marketing publications, posters, and public service announcements.

18. Department of the Treasury, Internal Revenue Service (N1-58-05-8, 1 item, 1 temporary item). Electronic forms to update and change government credit card holder information.

19. National Archives and Records Administration, Government-wide (N1-GRS-04-6, 8 items, 7 temporary items). Records relating to the management, maintenance, and operation of aircraft used by Federal agencies. Included are such records as flight orders and flight logs, correspondence pertaining to modifications and testing of equipment, aircraft engine and diagnostic reports, and other records useful in the investigation of aircraft accidents or incidents. Also included are electronic copies of records created using electronic mail and word processing. Proposed for permanent retention are recordkeeping copies of aircraft maintenance manuals for unique or customized aircraft.

20. Small Business Administration, Investment Division (N1-309-05-14, 5 items, 5 temporary items). Master files, outputs, backups, documentation, and electronic mail and word processing copies associated with an electronic information system used to track Office of Operations correspondence in the Division.

21. Small Business Administration, Investment Division (N1-309-05-17, 5 items, 5 temporary items). Master files, outputs, backups, documentation, and electronic mail and word processing copies associated with an electronic information system used to track files relating to venture capital investments by small business investment companies.

22. Tennessee Valley Authority, Chief Financial Officer and Financial Services (N1-142-04-8, 4 items, 4 temporary items). Master files, outputs, and documentation associated with an electronic information system used to establish and manage risks related to power generation.

Dated: September 9, 2005.
Michael J. Kurtz,
Assistant Archivist for Records Services—Washington, DC.

[FR Doc. 05-18382 Filed 9-15-05; 8:45 am]

BILLING CODE 7515-01-P